DEPARTMENT OF ENERGY

Federal Energy Regulatory Commission

Combined Notice of Filings #1

Take notice that the Commission received the following electric rate filings:

Docket Numbers: ER10-1910-029; ER10-1911-029.

Applicants: Duquesne Power, LLC, Duquesne Light Company.

Description: Notice of Non-Material Change in Status of Duquesne Light Company, et al.

Filed Date: 4/30/25.

Accession Number: 20250430-5719.

Comment Date: 5 p.m. ET 5/21/25.

Docket Numbers: ER10-2475-036; ER10-1520-021; ER10-1521-021; ER10-2474-035; ER10-3246-029; ER11-4666-009; ER11-4667-009; ER12-295-008; ER13-1266-055; ER15-2211-052; ER22-1385-015; ER23-674-011; ER23-676-011; ER24-1587-004.

Applicants: AlbertaEx, L.P., BHE Power Watch, LLC, BHE Wind Watch, LLC, BHER Market Operations, LLC., MidAmerican Energy Services, LLC, CalEnergy, LLC, NaturEner Rim Rock Wind Energy, LLC, NaturEner Glacier Wind Energy 2, LLC, NaturEner Glacier Wind Energy 1, LLC, PacifiCorp, Sierra Pacific Power Company, Occidental Power Marketing, L.P., Occidental Power Services, Inc., Nevada Power Company.

Description: Notice of Non-Material Change in Status of Nevada Power Company, et al.

Filed Date: 4/30/25.

Accession Number: 20250430-5712.

Comment Date: 5 p.m. ET 5/21/25.

Docket Numbers: ER12-164-028; ER10-1882-017; ER10-1894-016; ER10-2563-012; ER18-2203-008; ER19-1402-007; ER20-2288-008; ER22-2046-007; ER24-1576-005.

Applicants: Maple Flats Solar Energy Center LLC, Sapphire Sky Wind Energy LLC, Tatanka Ridge Wind, LLC, Coyote Ridge Wind, LLC, Upper Michigan Energy Resources Corporation, Wisconsin Electric Power Company, Wisconsin Public Service Corporation, Wisconsin River Power Company, Bishop Hill Energy III LLC.

Description: Notice of Non-Material Change in Status of Bishop Hill Energy III LLC, et al.

Filed Date: 4/30/25.

Accession Number: 20250430-5715.

Comment Date: 5 p.m. ET 5/21/25.

Docket Numbers: ER14-1776-011.

Applicants: Broken Bow Wind II, LLC.

Description: Notice of Change in Status of Broken Bow Wind II, LLC.

Filed Date: 4/30/25.

Accession Number: 20250430-5706.

Comment Date: 5 p.m. ET 5/21/25.

Docket Numbers: ER17-1794-008.

Applicants: Innovative Solar 42, LLC.

Description: Notice of Non-Material Change in Status of Innovative Solar 42, LLC.

Filed Date: 4/30/25.

Accession Number: 20250430-5718.

Comment Date: 5 p.m. ET 5/21/25.

Docket Numbers: ER18-1150-012; ER18-1183-011; ER18-1184-011; ER22-2188-006.

Applicants: Northwest Ohio IA, LLC, Delta Solar Power II, LLC, Delta Solar Power I, LLC, Northwest Ohio Wind, LLC.

Description: Notice of Non-Material Change in Status of Northwest Ohio Wind, LLC, et al.

Filed Date: 4/30/25.

Accession Number: 20250430-5714.

Comment Date: 5 p.m. ET 5/21/25.

Docket Numbers: ER21-44-008; ER10-1618-020; ER10-1631-022; ER10-1854-022; ER10-1859-012; ER10-1892-026; ER10-2678-023; ER10-2729-017; ER10-2739-039; ER10-2744-023; ER11-113-018; ER11-3320-022; ER11-3321-014; ER11-4694-014; ER12-1680-015; ER13-2316-020; ER14-19-021; ER14-1219-017; ER14-2548-012; ER15-2631-012; ER16-1732-016; ER16-1924-008; ER16-1925-008; ER16-1926-008; ER16-2405-016; ER16-2406-017; ER16-2703-009; ER17-989-015; ER17-990-015; ER17-992-015; ER17-993-015; ER17-1494-007; ER17-1946-015; ER17-1947-008; ER17-2084-008; ER18-95-012; ER19-170-007; ER19-2557-004; ER20-660-013; ER20-967-006; ER20-1440-008; ER20-2379-007; ER21-1133-005; ER21-1505-005; ER22-425-006; ER22-937-005; ER22-938-005; ER22-1241-005; ER22-1324-002; ER22-2513-004; ER23-618-004; ER23-1829-003; ER24-438-002; ER24-671-001; ER24-1366-003; ER24-1687-002; ER24-2139-002; ER24-2920-001; ER18-1106-005; ER17-692-006; ER17-692-007; ER16-2364-007; ER16-2169-007.

Applicants: Clearlight Energy SKIC 20 Solar, LLC, Clearlight Energy SKIC 10 Solar, LLC, Clearlight Energy Sanger LLC, Clearlight Energy Sanger LLC, Hunterstown Generation, LLC, Clearview Solar I, LLC, Capon Bridge Solar, LLC, Carvers Creek LLC, Tumbleweed Energy, LLC, Ravenswood Operations, LLC, Jade Meadow LLC, Shady Oaks Wind 2, LLC, Sandy Ridge Wind 2, LLC, Deerfield Wind Energy 2, LLC, LeConte Energy Storage, LLC, REV Energy Marketing, LLC, New Market Solar ProjectCo 2, LLC, New Market Solar ProjectCo 1, LLC, Enerwise Global Technologies, LLC, Diablo Energy Storage, LLC, Hummel Station, LLC, Sugar Creek Wind One LLC, Yards Creek Energy, LLC, Great Bay Solar II, LLC, Bolt Energy Marketing, LLC, Missisquoi, LLC, Gateway Energy Storage, LLC, Buchanan Energy Services Company, LLC, Great Bay Solar 1, LLC, Helix Maine Wind Development, LLC, Helix Ironwood, LLC, Vista Energy Storage, LLC, Bath County Energy, LLC, Springdale Energy, LLC, Gans Energy, LLC, Chambersburg Energy, LLC, Deerfield Wind Energy, LLC, Rockford Power, LLC, Rockford Power II, LLC, San Isabel Solar LLC, Pavant Solar II LLC, Bison Solar LLC, Aurora Generation, LLC, Odell Wind Farm, LLC, Ocean State Power, Armstrong Power, LLC, West Deptford Energy, LLC, Seneca Generation, LLC, Minonk Wind, LLC, GSG 6, LLC, Wallingford Energy LLC, LSP University Park, LLC, Sandy Ridge Wind, LLC, Riverside Generating Company, L.L.C., LS Power Marketing, LLC, Buchanan Generation, LLC, Troy Energy, LLC, Columbia Energy LLC, Santa Rosa Energy Center, LLC, Doswell Limited Partnership, University Park Energy, LLC, Rolling Hills Generating, L.L.C., Altavista Solar, LLC.

Description: Notice of Change in Status of Altavista Solar, LLC, et al.

Filed Date: 4/30/25.

Accession Number: 20250430-5708.

Comment Date: 5 p.m. ET 5/21/25.

Docket Numbers: ER22-2116-006; ER22-2115-006.

Applicants: Timber Road Solar Park LLC, Blue Harvest Solar Park LLC.

Description: Notice of Non-Material Change in Status of Blue Harvest Solar Park LLC, et al.

Filed Date: 4/30/25.

Accession Number: 20250430-5717.

Comment Date: 5 p.m. ET 5/21/25.

Docket Numbers: ER22-2190-004; ER22-2191-004.

Applicants: EDPR CA Solar Park II LLC, EDPR CA Solar Park LLC.

Description: Notice of Change in Status of EDPR CA Solar Park LLC, et al.

Filed Date: 4/30/25.

Accession Number: 20250430-5716.

Comment Date: 5 p.m. ET 5/21/25.

Docket Numbers: ER24-762-005; ER11-3731-008.

Applicants: LWP Lessee, LLC, Elevate Renewables F7, LLC.

Description: Notice of Change in Status of Elevate Renewables F7, LLC, et al.

Filed Date: 4/30/25.

Accession Number: 20250430-5713.

Comment Date: 5 p.m. ET 5/21/25.

Docket Numbers: ER24-1888-001; ER19-1342-004; ER22-2950-002.

Applicants: Keystone Wind Marketing LLC, Exus NM Data Center III, LLC, Exus NM Data Center II, LLC.

Description: Notice of Change in Status of Exus NM Data Center II, LLC, et al.

Filed Date: 4/30/25.

Accession Number: 20250430-5707.

Comment Date: 5 p.m. ET 5/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 8, 2025.
Carlos D. Clay,
Deputy Secretary.

[FR Doc. 2025-08532 Filed 5-14-25; 8:45 am]

BILLING CODE 6717-01-P